DEPARTMENT OF HEALTH AND HUMAN SERVICES

Agency for Healthcare Research and Quality

Request for Measures Assessing Health Care Organization Quality Improvement Activities To Improve Patient Understanding, Navigation, Engagement, and Self-Management

AGENCY: Agency for Healthcare Research and Quality (AHRQ), DHHS.

ACTION: Notice of request for measures.

SUMMARY: The Agency for Healthcare Research and Quality (AHRQ) requests information from the public (including health care delivery organizations, health information developers, payers, quality measure developers, clinicians, and health care consumers) about quality improvement measures designed to help health care organizations monitor initiatives aimed at:

• Improving patient understanding of health information,

• simplifying navigation of health care systems and facilities, and

• enhancing patients' ability to manage their health.

Specifically, AHRQ seeks quality improvement measures in four domains:

1. Communication,

2. Ease of Navigation,

3. Patient Engagement and Self-Management, and

4. Organizational Structure, Policy, and Leadership.

AHRQ is interested in measures that do not require patient survey data and that health care organizations are currently using, or have used in the past, to guide quality improvement activities designed to address these domains. AHRQ is also interested in information about relevant measures that are under development or are suggested for future development.

DATES: Please submit one or more quality improvement measures and supporting information on or before March 4, 2016. AHRQ will not respond individually to submitters, but will consider all submitted measures and publicly report the results of the review of the submissions in aggregate.

ADDRESSES: Submissions should follow the Submission Instructions below. Electronic responses are preferred and should be addressed to HealthLiteracy@AHRQ.HHS.gov. Non-electronic responses will also be accepted. Please send these by mail to: Cindy Brach, Center for Delivery, Organization, and Markets, Agency for Healthcare Research and Quality, 5600 Fisher Lane, Rockville, MD 20857, Mailstop: 07W25B.

FOR FURTHER INFORMATION CONTACT: HealthLiteracy@AHRQ.HHS.gov or Cindy Brach at the address above.

SUPPLEMENTARY INFORMATION:

Background Information

The health care system is complex and demanding. Health care organizations can help patients to succeed in the health care environment by ensuring that patients and caregivers are able to understand health information, navigate the health care system, engage in the health care process, and take an active and effective role in the management of their health.

This Request for Measures is part of a project that aims to:

• Identify existing measures that organizations use or could use to monitor progress related to the four domains described above; and,

• Refine and cull identified measures to establish a set of measures that reflects patient priorities, has expert support, and will be recommended for more formal measure development and testing.

The project focuses on identifying measures that are not generated from patient survey data.

The project is guided by a conceptual framework that builds on the concept of organizational health literacy. As described in the Institute of Medicine's Roundtable on Health Literacy, organizational health literacy is the “implementation and monitoring of organizational policies, practices, and structures that support patients in understanding health information, navigating the health care system, and managing their health” (Brach et al. 2012). The conceptual framework identifies four domains as key components of organizational health literacy.

1. Communication (e.g., the quality of verbal and written communication with patients, families, caregivers)

2. Ease of Navigation (e.g., the degree to which an organization's physical environment and systems of care are designed in a manner that simplifies navigation and use of services)

3. Patient Engagement and Self-Management (e.g., the degree to which an organization encourages patient engagement and provides support to enhance the ability of patients to manage their health)

4. Organizational Structure, Policy, and Leadership (e.g., leadership support for organizational health literacy; implementation of policies, procedures, and structures that serve to improve communication with patients, simplify patient navigation, and enhance patient engagement and self-management)

Quality improvement measures selected for further measure development and testing will assess key features of one or more of these domains.

This project is being conducted by AHRQ pursuant to its statutory authority to conduct and support research on healthcare and on systems for the delivery of such care, including activities with respect to quality measurement and improvement. 42 U.S.C. 299a(a)(2).

Submission Guidance

Submit a measure(s) that is currently in use, in development, or for which a need has been identified, in one or more of the four domains (i.e., Communication; Ease of Navigation; Patient Engagement and Self-Management; and Organizational Structure, Policy, and Leadership). For this Request for Measures, AHRQ is specifically interested in measures that do not require or use patient reported data obtained using a patient survey.

Your contribution will be very beneficial to AHRQ. The contents of all submissions will be made available to the public upon request. Materials submitted must be publicly available or can be made public. Materials that are considered confidential and marketing materials cannot be used by AHRQ. This is a voluntary request for information, and all costs for complying with this request must be borne by the submitter.

AHRQ and its contractor, will evaluate all submitted measures and supporting documentation. As a set of measures is identified and evaluated for further refinement and testing, submissions may be included in whole or in part or may be modified for inclusion in the measurement set. AHRQ will assume responsibility for the final measurement sets as well as any future modifications.

Submission Instructions

To facilitate handling of submissions, please include the name and email address of the measure developer or contact.

The responses most helpful to the Agency will include all or most of the following:

1. A brief cover letter,

2. a description of the measure and how it is calculated (e.g., who/what is included in the numerator, who/what is included in the denominator, who/what is excluded in calculating the measure),

3. the source of the measure (e.g., publications, organizations where measure has been used to guide quality improvement activities),

4. the domain best aligned with the measure (i.e., Communication; Ease of Navigation; Patient Engagement and Self-Management; and Organizational Structure, Policy, and Leadership),

5. the source of data used to calculate the measure (e.g., electronic health records, internal monitoring and reporting systems),

6. a description of data collection strategies (e.g., who is responsible for data collection, how is the information needed to calculate the measure collected),

7. a list of health care settings in which the measure has been or would be used and characteristics of the patient populations in these health care settings,

8. a description of how the measure has been used to support performance improvement (e.g., to whom is the measure reported, what actions have been taken based on the measure),

9. a summary of unintended negative consequences resulting from use of the measure (e.g., evidence that implementation of the measure has negatively impacted patients, staff, clinical process, or other features of the implementing organization), and

10. evidence that the measure is:

a. Valid and reliable,

b. associated with important outcomes,

c. meaningful to patients, families, clinicians, and/or administrators,

d. feasible to compute with accuracy and without undue cost, burden, or delay, and

e. generalizable across health care settings.

11. title, author(s), publication year, journal name, volume, issue, and page numbers of cited articles.

12. a statement of willingness to grant to AHRQ the right to use and disseminate submitted measures and their documentation to the public as part of a set of organizational health literacy measures.

Submission of copies of existing documentation or reports describing the measure and its properties, existing data sources, etc. is highly desirable but not required.

Reference Material

Brach, C., Keller, D., Hernandez, L.M., et al. (2012). Ten attributes of a health literate health care organization. Washington DC: Institute of Medicine.

Kripalani, S., Wallston, K., Cavanaugh, K.L., Osborn, C., Mulvaney, S., Scott, A.M., & Rothman, R.L. (2014). Measures to assess a health-literate organization. Washington DC: Institute of Medicine.

Sharon B. Arnold,
Deputy Director.

[FR Doc. 2016-02679 Filed 2-9-16; 8:45 am]

BILLING CODE P